DEPARTMENT OF THE INTERIOR

Minerals Management Service

30 CFR Part 206

RIN 1010-AC24

Establishing Oil Value for Royalty Due on Indian Leases

AGENCY: Minerals Management Service, Interior.

ACTION: Supplementary proposed rule; notice of extension of public comment period.

SUMMARY: The Minerals Management Service hereby gives notice that it is extending the public comment period on a supplementary proposed rule, which was published in the Federal Register on January 5, 2000, (65 FR 403). The proposed rule amends the royalty valuation regulations for crude oil produced from Indian leases. MMS will grant a 14-day extension until March 20, 2000.

DATES: Comments must be submitted on or before March 20, 2000.

ADDRESSES: Mail comments, suggestions, or objections about this supplementary proposed rule to: Minerals Management Service, Royalty Management Program, Rules and Publications Staff, P.O. Box 25165, MS 3021, Denver, Colorado 80225-0165. Courier address is Building 85, Denver Federal Center, Denver, Colorado 80225. E-mail address is RMP.comments@mms.gov.

FOR FURTHER INFORMATION CONTACT: David S. Guzy, Chief, Rules and Publications Staff, telephone number (303) 231-3432, fax number (303) 231-3385, e-mail RMP.comments@mms.gov.

SUPPLEMENTARY INFORMATION: In a February 18, 2000, Federal Register notice (65 FR 8442), we asked for comments concerning additional information requirements identified in the January 5, 2000, supplementary proposed rule (65 FR 403) and the proposed rule, which MMS published on February 12, 1998 (63 FR 7089). We requested that written comments must be received by March 20, 2000, regarding these newly identified information requirements.

We are granting an extension of 14 days to receive comments on the supplementary proposed rule to match the March 20, 2000, closing date for comments on new information collection requirements. Furthermore, we received a number of requests to extend the comment period beyond March 6, 2000, the closing date of the current comment period.

MMS believes this extension of time until March 20, 2000, will allow the public sufficient time to make additional comments on all aspects of the supplementary proposed rule, including any comments regarding information collection requirements.

We will review and carefully consider all comments received on the final Indian oil rule.

Dated: February 22, 2000.
Lucy Querques Denett,
Associate Director for Royalty Management.

[FR Doc. 00-4561 Filed 2-25-00; 8:45 am]

BILLING CODE 4310-MR-P